DEPARTMENT OF ENERGY

Federal Energy Regulatory Commission

Combined Notice of Filings #1

Take notice that the Commission received the following electric rate filings:

Docket Numbers: ER12-1643-001.

Applicants: ISO New England Inc.

Description: ISO New England Inc. submits Order No. 755 Regulation Mkt. Compliance Changes to be effective 12/31/9998.

Filed Date: 2/6/13.

Accession Number: 20130206-5047.

Comments Due: 5 p.m. e.t. 2/27/13.

Docket Numbers: ER12-2277-003.

Applicants: Midwest Independent Transmission System Operator, Inc.

Description: Midwest Independent Transmission System Operator, Inc. submits 2013-02-05 SA 2457 G631-2-3 Term to be effective 4/6/2013.

Filed Date: 2/5/13.

Accession Number: 20130205-5158.

Comments Due: 5 p.m. e.t. 2/26/13.

Docket Numbers: ER13-886-000.

Applicants: Midwest Independent Transmission System Operator, Inc.

Description: Midwest Independent Transmission System Operator, Inc. submits tariff filing per 35.13(a)(2)(iii: 02-05-2013 SA 2456 Termination Emmet Cty Energy-ITC to be effective 4/6/2013.

Filed Date: 2/5/13.

Accession Number: 20130205-5156.

Comments Due: 5 p.m. e.t. 2/26/13.

Docket Numbers: ER13-887-000.

Applicants: PJM Interconnection, L.L.C.

Description: Request for Limited Waiver of PJM Interconnection, L.L.C.

Filed Date: 2/6/13.

Accession Number: 20130206-5015.

Comments Due: 5 p.m. e.t. 2/27/13.

Docket Numbers: ER13-888-000.

Applicants: Niagara Mohawk Power Corporation, New York Independent System Operator, Inc.

Description: Niagara Mohawk Power Corporation submits tariff filing per 35.13(a)(2)(iii: NYISO filing of Agreement No. 1953 between National Grid and Erie Blvd. Hydropowr to be effective 11/9/2012.

Filed Date: 2/6/13.

Accession Number: 20130206-5040.

Comments Due: 5 p.m. e.t. 2/27/13.

Docket Numbers: ER13-889-000.

Applicants: Midwest Independent Transmission System Operator, Inc.

Description: Midwest Independent Transmission System Operator, Inc. submits tariff filing per 35.13(a)(2)(iii: 02-05-2013 SA 2509 ITC-Tuscola Wind E&P to be effective 2/7/2013.

Filed Date: 2/6/13.

Accession Number: 20130206-5044.

Comments Due: 5 p.m. e.t. 2/27/13.

Docket Numbers: ER13-890-000.

Applicants: PJM Interconnection, L.L.C.

Description: PJM Interconnection, L.L.C. submits Notice of Cancellation of Original Service Agreement No. 3259 to be effective 1/4/2013.

Filed Date: 2/6/13.

Accession Number: 20130206-5049.

Comments Due: 5 p.m. e.t. 2/27/13.

Docket Numbers: ER13-891-000.

Applicants: PJM Interconnection, L.L.C.

Description: PJM Interconnection, L.L.C. submits tariff filing per 35.13(a)(2)(iii: Non-Queue 69 Safe Harbor ISA—Original Service Agreement No. 3504 to be effective 1/7/2013.

Filed Date: 2/6/13.

Accession Number: 20130206-5050.

Comments Due: 5 p.m. e.t. 2/27/13.

Docket Numbers: ER13-892-000.

Applicants: PJM Interconnection, L.L.C.

Description: PJM Interconnection, L.L.C. submits Notice of Cancellation of Original SA No. 2711 in Dkt No. ER11-2707-000 to be effective 1/10/2013.

Filed Date: 2/6/13.

Accession Number: 20130206-5055.

Comments Due: 5 p.m. e.t. 2/27/13.

Docket Numbers: ER13-893-000.

Applicants: PJM Interconnection, L.L.C.

Description: PJM Interconnection, L.L.C. submits Notice of Cancellation of Original SA No. 3149 -Docket No. ER12-518-000 to be effective 1/10/2013.

Filed Date: 2/6/13.

Accession Number: 20130206-5056.

Comments Due: 5 p.m. e.t 2/27/13.

Take notice that the Commission received the following electric securities filings:

Docket Numbers: ES13-17-000.

Applicants: Northern Maine Independent System Administrator, Inc.

Description: Application of Northern Maine Independent System Administrator, Inc. for Authorization to Issue Securities Pursuant to Section 204 of the Federal Power Act.

Filed Date: 2/5/13.

Accession Number: 20130205-5178.

Comments Due: 5 p.m. e.t. 2/26/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 6, 2013.
Nathaniel J. Davis, Sr.,
Deputy Secretary.

[FR Doc. 2013-03301 Filed 2-12-13; 8:45 am]

BILLING CODE 6717-01-P